DEPARTMENT OF STATE

22 CFR Part 92

[Public Notice: 12553]

RIN 1400-AF89

Notarial and Related Services

AGENCY: Bureau of Consular Affairs, Department of State.

ACTION: Final rule.

SUMMARY: The Bureau of Consular Affairs amends its notarial rules to reflect that the Director, Deputy Directors, and regional Division Chiefs of the Office of American Citizens Services and Crisis Management, Overseas Citizens Services will designate U.S. citizen employees of the Department of State abroad, who are not diplomatic or consular officers, to perform notarial services. This change will streamline the designation process allowing expedited designation to provide this and expedite notarial service where needed at U.S. embassies and consulates abroad.

DATES: This rule is effective on November 27, 2024.

FOR FURTHER INFORMATION CONTACT: Thales Dus, U.S. Department of State, CA/OCS/MSU, SA-17, 10th Floor, Washington, DC 20522-1707, OCSRegs@state.gov, 202-485-6020.

SUPPLEMENTARY INFORMATION: This final rule modifies the Department's regulations on Notarial and Related Services in 22 CFR part 92. Amendments to § 92.1 authorize the Director, Deputy Directors and regional Division Chiefs of the Office of American Citizens Services and Crisis Management, Bureau of Consular Affairs, to designate U.S. citizen employees of the U.S. Department of State abroad, who are not diplomatic or consular officers, to perform notarial services at U.S. diplomatic and consular offices abroad. This change will replace the authorization for the Deputy Assistant Secretary for Overseas Citizens Services as the sole Department official able to designate U.S. citizen employees of the Department abroad as notarizing officers.

The Department is making this change to improve efficiencies in the process of designating Department employees as notarizing officers at U.S. embassies and consulates abroad. Demand for notarial services at 230 diplomatic and consular posts abroad varies from year to year but the trend line for requests for notarial services is ever increasing. The authority to designate U.S. citizen Department employees as notarizing officers has been a key resource for addressing increasing demand at posts abroad. The changes to this regulation authorizing an increase in the number of persons able to make such designations will place the Department on a more nimble, efficient footing able to better manage capacity demands.

Regulatory Findings

Administrative Procedure Act

This rule is a rule of agency organization, procedure, or practice, and thus is exempt from the “notice and comment” requirements of the Administrative Procedure Act. 5 U.S.C. 553(b). Pursuant to 5 U.S.C. 553(d), this rule will be effective 30 days after publication.

Regulatory Flexibility Act

The Department of State, in accordance with the Regulatory Flexibility Act (5 U.S.C. 605(b)), has reviewed this regulation and, by approving it, certifies that this rule will not have a significant economic impact on a substantial number of small entities.

Unfunded Mandates Act of 1995

This rule will not result in the expenditure by State, local, and tribal governments, in the aggregate, or by the private sector, of $100 million or more in any year and it will not significantly or uniquely affect small governments. Therefore, no actions were deemed necessary under the provisions of the Unfunded Mandates Reform Act of 1995.

Congressional Review Act

This rule is not a major rule as defined by 5 U.S.C. 804. This rule will not result in an annual effect on the economy of $100 million or more; a major increase in costs or prices; or significant adverse effects on competition, employment, investment, productivity, innovation, or on the ability of United States-based companies to compete with foreign based companies in domestic and import markets.

Executive Order 12866, 14094, and 13563

The Office of Information and Regulatory Affairs has designated this rulemaking as not significant under Executive Order 12866, section 3(f), Regulatory Planning and Review. The Department has reviewed the regulation to ensure its consistency with the regulatory philosophy and principles set forth in Executive Order 12866, as amended by Executive Order 14094.

The Department of State has considered this rule in light of Executive Order 13563, dated January 18, 2011, and affirms that this regulation is consistent with the guidance therein. Global notarial service volume in recent years was as follows:

2024-212,142 (as of August 2024)

2023-233,923

2022-263,036

The number of Designations of Notarizing Officers approved by the Deputy Assistant Secretary for Overseas Citizens Services in recent years are:

2024-130 (as of September 2024)

2023-114

2022-90

This rule will authorize more individuals than the Deputy Assistant Secretary to make designations of Notarizing Officers. The Department believes this will benefit both the public and the Department, and any cost associated with this change is outweighed by the efficiency this should add to the notary process.

Executive Orders 12372 and 13132

This regulation will not have substantial direct effects on the States, on the relationship between the national government and the States, or on the distribution of power and responsibilities among the various levels of government. Therefore, in accordance with section 6 of Executive Order 13132, it is determined that this rule does not have sufficient federalism implications to require consultations or warrant the preparation of a federalism summary impact statement. The regulations implementing Executive Order 12372 regarding intergovernmental consultation on Federal programs and activities do not apply to this regulation.

Paperwork Reduction Act

This rule does not impose any new reporting or record-keeping requirements subject to the Paperwork Reduction Act, 44 U.S.C. Chapter 35.

List of Subjects in 22 CFR Part 92

Notarial and related services.

For the reasons set out in the preamble, 22 CFR part 92 is amended as follows:

PART 92—NOTARIAL AND RELATED SERVICES

1. The authority citation for part 92 is revised to read as follows:

Authority: 22 U.S.C. 2651a, 2656, 4215 and 4221.

§ 92.1 [AMENDED]

2. Amend § 92.1 by revising paragraph (d) and removing the undesignated paragraph following paragraph (d) to read as follows:

§ 92.1 Definitions.

* * * * *

(d) For purposes of this part, except §§ 92.36 through 92.42 relating to the authentication of documents, the term “notarizing officer” includes consular officers, officers of the Foreign Service who are secretaries of embassy or legation under section 24 of the Act of August 18, 1856, 11 Stat. 61, as amended (22 U.S.C. 4221), and such U.S. citizen Department of State employees as the Director or Deputy Directors, and regional Division Chiefs, Office of American Citizens Services and Crisis Management, Overseas Citizens Services, Bureau of Consular Affairs, U.S. Department of State may designate for the purpose of performing notarial acts overseas pursuant to Section 127(b) of the Foreign Relations Authorization Act, Fiscal Years 1994-1995, Public Law 103-236, April 30, 1994 (“designated employees”). The authority of designated employees to perform notarial services shall not include the authority to perform authentications, to notarize patent applications, or take testimony in a criminal action or proceeding pursuant to a commission issued by a court in the United States, but shall otherwise encompass all notarial acts, including but not limited to administering or taking oaths, affirmations, affidavits or depositions. The notarial authority of a designated employee shall expire upon termination of the employee's assignment to such duty and may also be terminated at any time by the Director or Deputy Directors, or regional Division Chiefs of the Office of American Citizen Services and Crisis Management, Overseas Citizens Services, Bureau of Consular Affairs, U.S. Department of State.

Angela M. Kerwin,
Deputy Assistant Secretary, Bureau of Consular Affairs/Office of Overseas Citizen Services, Department of State.

[FR Doc. 2024-24890 Filed 10-25-24; 8:45 am]

BILLING CODE 4710-25-P